ENVIRONMENTAL PROTECTION AGENCY

40 CFR Part 52

[EPA-R09-OAR-2024-0209; FRL-11948-02-R9]

Air Plan Approval; California; Mojave Desert Air Quality Management District

AGENCY: Environmental Protection Agency (EPA).

ACTION: Final rule.

SUMMARY: The Environmental Protection Agency (EPA) is taking final action to approve revisions to the Mojave Desert Air Quality Management District (MDAQMD or “District”) portion of the California State Implementation Plan (SIP). These revisions concern recodification of prohibitory and administrative rules used by the District to regulate air pollutants under the Clean Air Act (CAA or the Act) including volatile organic compounds (VOCs), oxides of nitrogen (NOX) and particulate matter (PM). The intended effect is to update the California SIP to reflect the recodified rules.

DATES: These rules are effective January 3, 2025.

ADDRESSES: The EPA has established a docket for this action under Docket ID No. EPA-R09-OAR-2024-0209. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: La Kenya Evans-Hopper, EPA Region IX, 75 Hawthorne St., San Francisco, CA 94105; phone: (415) 972-3245; email: evanshopper.lakenya@epa.gov.

SUPPLEMENTARY INFORMATION: Throughout this document, “we,” “us,” and “our” refer to the EPA.

Table of Contents

I. Proposed Action

II. Public Comments and EPA Responses

III. EPA Action

IV. Incorporation by Reference

V. Statutory and Executive Order Reviews

I. Proposed Action

On July 16, 2024 (89 FR 57819), under CAA section 110(k)(3), the EPA proposed to approve certain MDAQMD rules because they represent recodifications of existing SIP rules. The EPA also proposed to approve certain rescissions of existing SIP rules for the Riverside County portion of the MDAQMD SIP because they mirror recodified rules that were proposed for approval.¹

¹ The MDAQMD's jurisdiction includes the desert portion of San Bernardino County and the far eastern portion of Riverside County.

In our proposed rule, we described the complicated regulatory history of the MDAQMD from the early 1970's to the present time. The applicable SIP for the area the District now regulates consists of a mixture of rules from current and former agencies. Rules adopted by MDAQMD apply District-wide; rules adopted by the San Bernardino County Air Pollution Control District (SBCAPCD) apply only in the San Bernardino County portion of the District; and rules adopted by the Riverside County APCD (RCAPCD), the Southern California APCD (SoCalAPCD), or the South Coast Air Quality Management District (SCAQMD) only apply in the Riverside County portion of the District. The purpose of the SIP revisions that are the subject of this action is to align the SIP versions of the rules with those that are in effect in the MDAQMD.

Table 1 lists the MDAQMD rules that were submitted for inclusion in the SIP with the date each rule was adopted and then submitted by the California Air Resources Board (CARB).² When these rules were submitted, CARB also requested rescission of the analogous rules in the SIP that were adopted by SCAQMD.³ Table 2 lists the rules to be rescinded by this action with the dates that they were adopted by SCAQMD, approved by the EPA (with the associated Federal Register citations), subsequently rescinded by MDAQMD, and then submitted by CARB for rescission.

² The SBCAPCD rules have adoption dates prior to the formation of the MDAQMD because the rules were not revised or amended when the MDAQMD was formed and first adopted its rulebook. The rules were merely recodified as being MDAQMD rules that apply District-wide.

³ The versions of Rules 104, 408, 443, 468, 469 and 472 that are currently part of the applicable SIP for the Riverside County portion of the MDAQMD were adopted by the SoCalAPCD, rather than the SCAQMD.

Table 1—Submitted Rules
Local agency | Rule No. | Rule title | Adopted/amended/revised date | Submittal date
MDAQMD | 104 | Reporting of Source Test Data and Analyses | December 19, 1988 | October 13, 2023.
MDAQMD | 404 | Particulate Matter—Concentration | July 25, 1977 | May 11, 2023.
MDAQMD | 405 | Solid Particulate Matter—Weight | July 25, 1977 | May 11, 2023.
MDAQMD | 407 | Liquid and Gaseous Air Contaminants | July 25, 1977 | September 23, 2022.
MDAQMD | 408 | Circumvention | July 25, 1977 | May 11, 2023.
MDAQMD | 409 | Combustion Contaminants | July 25, 1977 | May 11, 2023.
MDAQMD | 443 | Labeling of Solvents | July 25, 1977 | May 11, 2023.
MDAQMD | 468 | Sulfur Recovery Units | July 25, 1977 | November 30, 2022.
MDAQMD | 469 | Sulfuric Acid Units | July 25, 1977 | November 30, 2022.
MDAQMD | 472 | Reduction of Animal Matter | July 25, 1977 | May 11, 2023.

Table 2—Submitted Rule Rescissions
Local agency | Title | Adopted/amended/revised date | SIP approval date and FR citation | Date of rescission by MDAQMD | Submittal date
SCAQMD Rule 104 | Reporting of Source Test Data and Analyses | January 9, 1976 | June 14, 1978, 43 FR 25684 | April 24, 2023 | October 13, 2023.
SCAQMD Rule 408 | Circumvention | May 7, 1976 | June 14, 1978, 43 FR 25684 | April 25, 2022 | May 11, 2023.
SCAQMD Rule 443 | Labeling of Solvents | January 1, 1977 | June 14, 1978, 43 FR 25684 | October 24, 2022 | May 11, 2023.
SCAQMD Rule 468 | Sulfur Recovery Units | October 8, 1976 | June 14, 1978, 43 FR 25684 | August 22, 2022 | November 30, 2022.
SCAQMD Rule 469 | Sulfuric Acid Units | October 8, 1976 | June 14, 1978, 43 FR 25684 | August 22, 2022 | November 30, 2022.
SCAQMD Rule 472 | Reduction of Animal Matter | May 7, 1976 | June 14, 1978, 43 FR 25684 | August 22, 2022 | May 11, 2023.

Table 3 lists the previously-approved rules that had been adopted by the SBCAPCD along with their local adoption dates and EPA approval citations. Upon final approval of the MDAQMD rules listed in table 1, the SCBAPCD rules in table 3 will be superseded in the applicable SIP by the corresponding MDAQMD rules.

Table 3—SIP Rules To Be Superseded Upon Approval of Rules Listed in Table 1
Local agency | Rule No. | Rule title | Adopted/ amended/ revised date | SIP approval date and FR citation
SBCAPCD | 104 | Reporting of Source Test Data and Analyses | December 19, 1988 | November 27, 1990, 55 FR 49281.
SBCAPCD | 404 | Particulate Matter—Concentration | July 25, 1977 | December 21, 1978, 43 FR 59489.
SBCAPCD | 405 | Solid Particulate Matter—Weight | July 25, 1977 | December 21, 1978, 43 FR 59489.
SBCAPCD | 407 | Liquid and Gaseous Air Contaminants | February 1, 1977 | September 8, 1978, 43 FR 40011.
SBCAPCD | 408 | Circumvention | February 1, 1977 | September 8, 1978, 43 FR 40011.
SBCAPCD | 409 | Combustion Contaminants | February 1, 1977 | September 8, 1978, 43 FR 40011.
SBCAPCD | 443 | Labeling of Solvents | February 1, 1977 | September 8, 1978, 43 FR 40011.
SBCAPCD | 468 | Sulfur Recovery Units | February 1, 1977 | September 8, 1978, 43 FR 40011.
SBCAPCD | 469 | Sulfuric Acid Units | February 1, 1977 | September 8, 1978, 43 FR 40011.
SBCAPCD | 472 | Reduction of Animal Matter | February 1, 1977 | September 8, 1978, 43 FR 40011.

As explained in the proposed rule, we reviewed these particular submitted MDAQMD rules as recodifications of existing rules and did not review the substance of the rules at this time.⁴ The EPA proposed to approve the rules in table 1 to replace identical rules in table 3 that were previously-approved by the EPA but that only apply to a geographic subset of the District. For additional information about our proposed action and rationale, please see our proposed rule.

⁴ We followed the guidance from the EPA memorandum dated February 12, 1990, from Johnnie L. Pearson, Chief, Regional Activities Section, EPA Office of Air Quality Planning and Standards to Chief, Air Branch, Regions I-X, “Review of State Regulation Recodifications.”

II. Public Comments and EPA Responses

The EPA's proposed action provided a 30-day public comment period. During this period, we received no comments.

III. EPA Action

Under CAA section 110(k)(3), and for the reasons given in the proposed rule and summarized herein, the EPA is taking final action to approve the submitted rules in table 1 because they represent recodifications of existing SIP rules. The rules in table 1 will supersede the rules in table 3. The EPA is also taking final action to approve the rescissions listed in table 2 because they mirror recodified rules that we are approving. Our final action incorporates the submitted rules into the SIP and removes from the applicable SIP the rules that have been rescinded or superseded.

IV. Incorporation by Reference

In this rule, the EPA is finalizing regulatory text that includes incorporation by reference. In accordance with requirements of 1 CFR 51.5, the EPA is finalizing the incorporation by reference of the MDAQMD rules listed in table 1 of this preamble, which includes certain administrative and prohibitory rules that control emissions of VOCs, NOX, and PM. The EPA has made, and will continue to make, these documents available through www.regulations.gov and at the EPA Region IX Office (please contact the person identified in the FOR FURTHER INFORMATION CONTACT section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The air agency did not evaluate environmental justice considerations as part of its SIP submittal; the CAA and applicable implementing regulations neither prohibit nor require such an evaluation. The EPA did not perform an EJ analysis and did not consider EJ in this action. Consideration of EJ is not required as part of this action, and there is no information in the record inconsistent with the stated goal of E.O. 12898 of achieving EJ for communities with EJ concerns.

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by February 3, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Particulate matter, Reporting and recordkeeping requirements, Sulfur dioxide, Volatile organic compounds.

Dated: November 19, 2024.
Martha Guzman Aceves,
Regional Administrator, Region IX.

For the reasons stated in the preamble, the EPA amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.220 is amended by adding paragraphs (c)(31)(vi)(J), (c)(32)(iv)(H) through (J), (c)(37)(i)(E) and (F), (c)(39)(ii)(M) through (S), (c)(42)(xiii)(E) and (F), (c)(179)(i)(B)(4), (c)(610)(i)(D), and (c)(620) through (622) to read as follows:

§ 52.220 Identification of plan-in part.

* * * * *

(c) * * *

(31) * * *

(vi) * * *

(J) Previously approved on June 14, 1978, in paragraph (c)(31)(vi)(B) of this section and now deleted with replacement in paragraph (c)(622)(i)(A)(1) of this section for implementation in the Mojave Desert Air Quality Management District: Rule 104.

* * * * *

(32) * * *

(iv) * * *

(H) Previously approved on June 14, 1978, in paragraph (c)(32)(iv)(A) of this section and now deleted with replacement in paragraph (c)(610)(i)(D)(3) of this section for implementation in the Mojave Desert Air Quality Management District: Rule 408.

(I) Previously approved on June 14, 1978, in paragraph (c)(32)(iv)(A) of this section and now deleted with replacement in paragraph (c)(610)(i)(D)(5) of this section for implementation in the Mojave Desert Air Quality Management District: Rule 443.

(J) Previously approved on June 14, 1978, in paragraph (c)(32)(iv)(A) of this section and now deleted with replacement in paragraph (c)(610)(i)(D)(6) of this section for implementation in the Mojave Desert Air Quality Management District: Rule 472.

* * * * *

(37) * * *

(i) * * *

(E) Previously approved on June 14, 1978, in paragraph (c)(37)(i)(A) of this section and now deleted with replacement in paragraph (c)(621)(i)(A)(1) of this section for implementation in the Mojave Desert Air Quality Management District: Rule 468.

(F) Previously approved on June 14, 1978, in paragraph (c)(37)(i)(A) of this section and now deleted with replacement in paragraph (c)(621)(i)(A)(2) of this section for implementation in the Mojave Desert Air Quality Management District: Rule 469.

* * * * *

(39) * * *

(ii) * * *

(M) Previously approved on September 8, 1978, in paragraph (c)(39)(ii)(C) of this section and now deleted with replacement in paragraph (c)(620)(i)(A)(1) of this section: Rule 407.

(N) Previously approved on September 8, 1978, in paragraph (c)(39)(ii)(C) of this section and now deleted with replacement in paragraph (c)(610)(i)(D)(3) of this section: Rule 408.

(O) Previously approved on September 8, 1978, in paragraph (c)(39)(ii)(C) of this section and now deleted with replacement in paragraph (c)(610)(i)(D)(4) of this section: Rule 409.

(P) Previously approved on September 8, 1978, in paragraph (c)(39)(ii)(C) of this section and now deleted with replacement in paragraph (c)(610)(i)(D)(5) of this section: Rule 443.

(Q) Previously approved on September 8, 1978, in paragraph (c)(39)(ii)(C) of this section and now deleted with replacement in paragraph (c)(621)(i)(A)(1) of this section: Rule 468.

(R) Previously approved on September 8, 1978, in paragraph (c)(39)(ii)(C) of this section and now deleted with replacement in paragraph (c)(621)(i)(A)(2) of this section: Rule 469.

(S) Previously approved on September 8, 1978, in paragraph (c)(39)(ii)(C) of this section and now deleted with replacement in paragraph (c)(610)(i)(D)(6) of this section: Rule 472.

* * * * *

(42) * * *

(xiii) * * *

(E) Previously approved on December 21, 1978, in paragraph (c)(42)(xiii)(A) of this section and now deleted with replacement in paragraph (c)(610)(i)(D)(1) of this section: Rule 404.

(F) Previously approved on December 21, 1978, in paragraph (c)(42)(xiii)(A) of this section and now deleted with replacement in paragraph (c)(610)(i)(D)(2) of this section: Rule 405.

* * * * *

(179) * * *

(i) * * *

(B) * * *

(4) Previously approved on November 27, 1990, in paragraph (c)(179)(i)(B)(1) of this section and now deleted with replacement in paragraph (c)(622)(i)(A)(1) of this section: Rule 104, amended on December 19, 1988.

* * * * *

(610) * * *

(i) * * *

(D) Mojave Desert Air Quality Management District.

(1) Rule 404, “Particulate Matter—Concentration,” readopted on July 25, 1977.

(2) Rule 405, “Solid Particulate Matter—Weight,” readopted on July 25, 1977.

(3) Rule 408, “Circumvention,” readopted on July 25, 1977.

(4) Rule 409, “Combustion Contaminants,” readopted on July 25, 1977.

(5) Rule 443, “Labeling of Solvents,” readopted on July 25, 1977.

(6) Rule 472, “Reduction of Animal Matter,” readopted on July 25, 1977.

* * * * *

(620) The following regulations were submitted on September 23, 2022, by the Governor's designee.

(i) Incorporation by reference. (A) Mojave Desert Air Quality Management District.

(1) Rule 407, “Liquid and Gaseous Air Contaminants,” readopted on July 25, 1977.

(2) [Reserved]

(B) [Reserved]

(ii) [Reserved]

(621) The following regulations were submitted electronically on November 30, 2022, by the Governor's designee as an attachment to a letter dated November 22, 2022.

(i) Incorporation by reference. (A) Mojave Desert Air Quality Management District.

(1) Rule 468, “Sulfur Recovery Units,” readopted on July 25, 1977.

(2) Rule 469, “Sulfur Acid Units,” readopted on July 25, 1977.

(B) [Reserved]

(ii) [Reserved]

(622) The following regulations were submitted on October 13, 2023, by the Governor's designee.

(i) Incorporation by reference. (A) Mojave Desert Air Quality Management District.

(1) Rule 104, “Reporting of Source Test Data and Analyses,” amended on December 19, 1988.

(2) [Reserved]

(B) [Reserved]

(ii) [Reserved]

* * * * *

[FR Doc. 2024-27627 Filed 12-3-24; 8:45 am]

BILLING CODE 6560-50-P